DEPARTMENT OF THE INTERIOR

National Park Service

Minor Boundary Revision at Delaware Water Gap National Recreation Area

AGENCY: National Park Service, Interior.

ACTION: Announcement of boundary revision and land exchange.

SUMMARY: This notice announces the revision to the boundary of Delaware Water Gap National Recreation Area, pursuant to the Act specified below, to include a 6.67-acre parcel of adjacent land identified as Tract 921 located in Smithfield Township, Monroe County, Pennsylvania, and depicted on a map prepared by the National Park Service entitled “Delaware Water Gap National Recreation Area Proposed Boundary,” dated November 7, 2007, and numbered 620/80,055. The United States will acquire Tract 921 in exchange for 1.22 acres of Federal land also located within Monroe County.

FOR FURTHER INFORMATION CONTACT: Superintendent, Delaware Water Gap National Recreation Area, Headquarters, River Road at Route 209, Bushkill, PA 18324. Telephone 570-426-2418. Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: Public Law 89-158, as amended, authorizes the Secretary of the Interior to make adjustments in the boundary of the national recreation area by publication of the amended description thereof in the Federal Register and to acquire, by such means as he may deem to be in the public interest, such lands and interests therein included in the area by reason of the boundary adjustment. Pursuant to that authority, the boundary of the national recreation area is revised to include 6.67 acres located adjacent to the present boundary and identified as Tract 921. Thereafter the Secretary will convey to the Borough of Delaware Water Gap 1.22 acres of Federal land located in the Borough identified as Tract 574 within the Delaware Water Gap National Recreation Area, and, in exchange, the Borough will convey Tract 921 to the United States. Both tracts will remain within the national recreation area boundary. The purpose for the exchange is to convey to the Borough land that has been traditionally used for summer festivals in exchange for land that will provide additional buffer from large-scale housing projects planned for the area.

The maps are on file and available for inspection in the Lands, Concessions and Leasing Division of Realty, National Park Service Northeast Regional Office, U.S. Custom House, 200 Chestnut Street, Room 324, Philadelphia, Pennsylvania 19106-2988, and in the Offices of the National Park Service Department of the Interior, Washington, DC 20240.

Dated: November 9, 2007.
Dennis R. Reidenbach,
Regional Director, Northeast Region.

[FR Doc. E8-1649 Filed 1-29-08; 8:45 am]

BILLING CODE 4312-JG-P